DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Coastal Ocean Program Grants Proposal Application Package.

OMB Control Number: 0648-0384.

Form Number(s): None.

Type of Request: Regular (revision and extension of a currently approved information collection).

Number of Respondents: 300.

Average Hours per Response: 30 minutes each for a project summary, key contacts and current and pending federal support; 5 hours for a semi-annual report; 5 hours for an annual report and 10 hours for a final report.

Burden Hours: 1,050.

Needs and Uses: This request is for a revision and extension of a currently approved information collection. The National Oceanic and Atmospheric Administration's Coastal Ocean Program (COP) provides direct financial assistance through grants and cooperative agreements for research supporting the management of coastal ecosystems. The statutory authority for COP is Public Law 102-567 Section 201 (Coastal Ocean Program). In addition to standard government application requirements, applicants for financial assistance are required to submit a project summary form, current and pending form and a key contacts form. Recipients are required to file annual progress reports and a project final report using COP formats. All of these requirements are needed for better evaluation of proposals and monitoring of awards.

This revision is the addition of the NOAA RESTORE Act Science Program. This program provides direct financial assistance through grants and cooperative agreements for research, observation, and monitoring to support, to the maximum extent practicable, the long-term sustainability of the ecosystem, fish stocks, fish habitat, and the recreational, commercial, and charter-fishing industry in the Gulf of Mexico. NOAA was authorized to establish and administer the Program, in consultation with the U.S. Fish and Wildlife Service, by the Resources and Ecosystems Sustainability, Tourist Opportunities, and Revived Economies (RESTORE) of the Gulf States Act of 2012 (Pub. L. 112-141, Section 1604). Identified in the RESTORE Act as the Gulf Coast Ecosystem Restoration Science, Observation, Monitoring, and Technology Program, the Program is commonly known as the NOAA RESTORE Act Science Program. The NOAA RESTORE Act Science Program will use the standard government application forms for financial assistance as well as the COP project summary form, current and pending form and a key contacts form. Recipients are required to file semi-annual progress reports and a project final report using a revised COP format. These additional forms are necessary for consistency. The main purpose of this information collection is to enable the NOAA RESTORE Act Science Program to provide summaries of each proposed project, the key applicant contact information and their current and pending Federal funding. The information gathered will enable the NOAA RESTORE Act Science Program to properly and quickly evaluate proposals in a collaborative environment with its partner agencies.

Affected Public: Non-profit institutions; State, local, or tribal government; business or other for-profit organizations.

Frequency: Annually, semi-annually and on occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 29, 2016.
Sarah Brabson,
NOAA PRA Clearance Officer.

[FR Doc. 2016-15869 Filed 7-5-16; 8:45 am]

BILLING CODE 3510-JS-P